DEPARTMENT OF TRANSPORTATION

National Highway Traffic Safety Administration

Petition for Exemption From the Federal Motor Vehicle Motor Theft Prevention Standard; Toyota

AGENCY: National Highway Traffic Safety Administration, Department of Transportation (DOT).

ACTION: Grant of petition for exemption.

SUMMARY: This document grants in full the petition of Toyota Motor North America, Inc's., (Toyota) petition for an exemption of the Corolla vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard (49 CFR part 541).

DATES: The exemption granted by this notice is effective beginning with model year (MY) 2012.

FOR FURTHER INFORMATION CONTACT: Ms. Deborah Mazyck, Office of International Policy, Fuel Economy and Consumer Standards, NHTSA, W43-443, 1200 New Jersey Avenue, SE., Washington, DC 20590. Ms. Mazyck's phone number is (202) 366-4139. Her fax number is (202) 493-2990.

SUPPLEMENTARY INFORMATION: In a petition dated January 24, 2011, Toyota requested an exemption from the parts-marking requirements of the theft prevention standard (49 CFR part 541) for the Toyota Corolla vehicle line beginning with MY 2012. The petition requested an exemption from parts-marking pursuant to 49 CFR part 543, Exemption from Vehicle Theft Prevention Standard, based on the installation of an antitheft device as standard equipment for the entire vehicle line.

Under § 543.5(a), a manufacturer may petition NHTSA to grant an exemption for one vehicle line per model year. In its petition, Toyota provided a detailed description and diagram of the identity, design, and location of the components of the antitheft device for the Corolla vehicle line. Toyota will install a passive, transponder-based, electronic engine immobilizer device as standard equipment on its Corolla vehicle line beginning with MY 2012.

Key components of the antitheft device include an engine immobilizer, transponder key electronic control unit (ECE), assembly, transponder key amplifier, security indicator, ignition key and Electronic control module (ECM). The device's security indicators provide the status of the immobilizer to users and others inside/outside the vehicle. When the immobilizer is activated, the indicator flashes continuously. When the immobilizer is not activated, the indicator is turned off. The antitheft device does not incorporate an audible or visual alarm as standard equipment. Toyota's submission is considered a complete petition as required by 49 CFR 543.7 in that it meets the general requirements contained in 543.5 and the specific content requirements of 543.6.

Toyota stated that the immobilizer is activated when the ignition key is turned from the “ON” position and/or removed from the vehicle's ignition. The device is deactivated when the “conventional key” is inserted into the key cylinder and turned toward the “ON” position. Toyota stated that after the key is inserted into the key cylinder, the transponder chip in the key sends the ID codes to the Transponder Key ECU assembly to verify the code. When the key code has been verified, the immobilizer allows the ECM to start the engine.

Toyota also stated that there will be position switches installed in the vehicle to protect the hood and doors. The sensors will trigger the antitheft device when it detects inappropriate opening of the hood (i.e., from outside the vehicle, instead of using the interior release) and inappropriate opening of the door (i.e., when the doors are opened without using a key or wireless switch/key FOB).

In addressing the specific content requirements of 543.6, Toyota provided information on the reliability and durability of its proposed device. To ensure reliability and durability of the device, Toyota conducted tests based on its own specified standards. Toyota provided a detailed list of the tests conducted (i.e., high and low temperature, strength, impact, vibration, electro-magnetic interference, etc.). Toyota stated that it believes that its device is reliable and durable because it complied with its own specific design standards and it is installed in other vehicle lines for which the agency has granted a parts-marking exemption. Additionally, Toyota stated that there are approximately 20,000 combinations for the key cylinders and key plates for its outer gutter keys and approximately 10,000 for its inner gutter keys, making it very difficult to unlock the doors without valid keys.

Toyota informed the agency that its Corolla vehicle line has been equipped with the device beginning with its MY 2005 vehicles. Toyota referenced NHTSA published theft rate data for several years before and after the Corolla vehicle line was equipped with a standard immobilizer. Toyota stated that the average theft rate for the Corolla dropped to 2.1 per 1,000 cars produced between MYs 2005-2008 (with a standard immobilizer) from 4.0 per 1,000 cars produced between MYs 1996-1999 (without a standard immobilizer). Toyota stated that this represents approximately a 47.5% decrease in the theft rate with installation of a standard immobilizer for the Toyota Corolla vehicle line when compared to the average for the Corolla when it was parts marked. Toyota believes that installing the immobilizer as standard equipment reduces the theft rate and therefore would be more effective than parts-marking labels. Toyota also revealed that the Toyota Camry and Lexus LS and GS vehicle lines have all been granted parts-marking exemptions by the agency. The theft rates for the Toyota Camry and Lexus LS and GS vehicle lines using an average of three model years data are 1.6742, 1.3567 and 1.0961 respectively. Therefore, Toyota has concluded that the antitheft device proposed for its vehicle line is no less effective than those devices in the lines for which NHTSA has already granted full exemption from the parts-marking requirements.

Based on the evidence submitted by Toyota, the agency believes that the antitheft device for the Corolla vehicle line is likely to be as effective in reducing and deterring motor vehicle theft as compliance with the parts-marking requirements of the Theft Prevention Standard (49 CFR 541).

Pursuant to 49 U.S.C. 33106 and 49 CFR 543.7 (b), the agency grants a petition for exemption from the parts-marking requirements of part 541, either in whole or in part, if it determines that, based upon substantial evidence, the standard equipment antitheft device is likely to be as effective in reducing and deterring motor vehicle theft as compliance with the parts-marking requirements of part 541. The agency finds that Toyota has provided adequate reasons for its belief that the antitheft device for the Toyota Corolla vehicle line is likely to be as effective in reducing and deterring motor vehicle theft as compliance with the parts-marking requirements of the Theft Prevention Standard (49 CFR part 541). This conclusion is based on the information Toyota provided about its device.

The agency concludes that the device will provide four or five of the types of performance listed in § 543.6(a)(3): Promoting activation; attract attention to the efforts of an unauthorized person to enter or move a vehicle by means other than a key; preventing defeat or circumvention of the device by unauthorized persons; preventing operation of the vehicle by unauthorized entrants; and ensuring the reliability and durability of the device

For the foregoing reasons, the agency hereby grants in full Toyota's petition for exemption for the Toyota Corolla vehicle line from the parts-marking requirements of 49 CFR part 541, beginning with the 2012 model year vehicles. The agency notes that 49 CFR part 541, Appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts marking requirements of the Theft Prevention Standard.

If Toyota decides not to use the exemption for this line, it should formally notify the agency. If such a decision is made, the line must be fully marked according to the requirements under 49 CFR 541.5 and 541.6 (marking of major component parts and replacement parts).

NHTSA notes that if Toyota wishes in the future to modify the device on which this exemption is based, the company may have to submit a petition to modify the exemption. Part 543.7(d) states that a part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: March 1, 2011.
Joseph S. Carra,
Acting Associate Administrator for Rulemaking.

[FR Doc. 2011-4951 Filed 3-3-11; 8:45 am]

BILLING CODE 4910-59-P